DEPARTMENT OF EDUCATION

Office of the Secretary

34 CFR Subtitles A and B

Unified Agenda of Federal Regulatory and Deregulatory Actions

AGENCY: Office of the Secretary, Department of Education.

ACTION: Semiannual regulatory agenda.

SUMMARY: The Secretary of Education publishes a semiannual agenda of Federal regulatory and deregulatory actions. The agenda is issued under the authority of section 4(b) of Executive Order 12866, “Regulatory Planning and Review.” The purpose of the agenda is to encourage more effective public participation in the regulatory process by providing the public with early information about pending regulatory activities.

FOR FURTHER INFORMATION CONTACT: Questions or comments related to specific regulations listed in this agenda should be directed to the agency contact listed for the regulations. Questions or comments related to preparation of this agenda should be directed to LaTanya Cannady, Division of Regulatory Services, Office of the General Counsel, Department of Education, Room 6C128, 400 Maryland Avenue, SW., Washington, DC 20202-2241; telephone: (202) 401-9676. Individuals who use a telecommunications device for the deaf (TDD) may call the Federal Relay Service (FRS) at 1-800-877-8339.

SUPPLEMENTARY INFORMATION: Section 4(b) of Executive Order 12866, dated September 30, 1993, requires the Department of Education (ED) to publish, at a time and in a manner specified by the Administrator of the Office of Information and Regulatory Affairs, Office of Management and Budget, an agenda of all regulations under development or review. The Regulatory Flexibility Act, 5 U.S.C. 602(a), requires ED to publish, in October and April of each year, a regulatory flexibility agenda.

The regulatory flexibility agenda may be combined with any other agenda that satisfies the statutory requirements (5 U.S.C. 605(a)). In compliance with the Executive Order and the Regulatory Flexibility Act, the Secretary publishes this agenda.

For each set of regulations listed, the agenda provides the title of the document, the type of document, a citation to any rulemaking or other action taken since publication of the most recent agenda, and planned dates of future rulemaking. In addition, the agenda provides the following information:

• An abstract that includes a description of the problem to be addressed, any principal alternatives being considered, and potential costs and benefits of the action.

• An indication of whether the planned action is likely to have significant economic impact on a substantial number of small entities as defined by the Regulatory Flexibility Act (5 U.S.C. 601(6)).

• A reference to where a reader can find the current regulations in the Code of Federal Regulations.

• A citation of legal authority.

• The name, address, and telephone number of the contact person at ED from whom a reader can obtain additional information regarding the planned action.

In accordance with ED's Principles for Regulating listed in its regulatory plan (75 FR 79509, published Dec. 20, 2010); ED is committed to regulations that improve the quality and equality of services to its customers. ED will regulate only if absolutely necessary and then in the most flexible, most equitable, least burdensome way possible.

Interested members of the public are invited to comment on any of the items listed in this agenda that they believe are not consistent with the Principles for Regulating. Members of the public are also invited to comment on any regulations listed in this agenda that ED plans to review under section 610 of the Regulatory Flexibility Act (5 U.S.C. 610) to determine their economic impact on small entities. ED has determined that none of the regulations in this agenda require review under section 610.

This publication does not impose any binding obligation on ED with regard to any specific item in the agenda. ED may elect not to pursue any of the regulatory actions listed here, and regulatory action in addition to the items listed is not precluded. Dates of future regulatory actions are subject to revision in subsequent agendas.

Electronic Access to This Document

The entire Unified Agenda is published electronically and is available online at http://www.reginfo.gov.

Dated: March 11, 2011.
Charles P. Rose,
General Counsel.

Office of Postsecondary Education—Final Rule Stage
Sequence No. | Title | Regulation Identifier No.
136 | Program Integrity: Gainful Employment-Measures | 1840-AD06

DEPARTMENT OF EDUCATION (ED)

Office of Postsecondary Education (OPE)

Final Rule Stage

136. Program Integrity: Gainful Employment—Measures

Legal Authority: 20 U.S.C. 1001 to 1003; 20 U.S.C. 1070g; 20 U.S.C. 1085; 20 U.S.C. 1088; 20 U.S.C. 1091 to 1092; 20 U.S.C. 1094; 20 U.S.C. 1099c; 20 U.S.C. 1099c-1; et seq.

Abstract: The Secretary amends the Student Assistance General Provisions to establish measures for determining whether certain postsecondary educational programs lead to gainful employment in recognized occupations, and the conditions under which those educational programs remain eligible for the student financial assistance programs authorized under title IV of the Higher Education Act of 1965, as amended.

Timetable:

Action | Date | FR Cite
NPRM | 07/26/10 | 75 FR 43616
NPRM Comment Period End | 09/09/10 |
Final Action | 06/00/11 |

Regulatory Flexibility Analysis Required: Yes.

Agency Contact: John A. Kolotos, Department of Education, Office of Postsecondary Education, Room 8018, 1990 K Street, NW., Washington, DC 20006-8502, Phone: 202 502-7762, E-mail: john.kolotos@ed.gov.

Fred Sellers, Department of Education, Office of Postsecondary Education, Room 8021, 1990 K Street, NW., Washington, DC 20006, Phone: 202 502-7502, E-mail: fred.sellers@ed.gov.

RIN: 1840-AD06

[FR Doc. 2011-15483 Filed 7-6-11; 8:45 am]

BILLING CODE 4000-01-P